DEPARTMENT OF DEFENSE

Department of the Army; Corps of Engineers

Intent To Prepare an Environmental Impact Statement for the City of Abilene, Texas, Cedar Ridge Reservoir Water Supply Project

AGENCY: Department of the Army, U.S. Army Corps of Engineers, DoD.

ACTION: Notice of intent.

SUMMARY: The U.S. Army Corps of Engineers (USACE) is preparing an Environmental Impact Statement (EIS) to analyze the direct, indirect, and cumulative effects of a proposed water supply project, the Cedar Ridge Reservoir, proposed by the City of Abilene, TX. A Clean Water Act Section 404 permit would be required for the construction and operation of the proposed Project since it would result in permanent and temporary impacts to waters of the United States. The Project, as proposed by the applicant, is intended to provide approximately 34,400 acre-feet of new reliable water supply to address additional water supply needs. The Cedar Ridge Project would be a non-federal project constructed, owned, and operated by the City of Abilene.

DATES: A public scoping meeting will be held May 16, 2018, 4:00 to 8:00 p.m., in Abilene, TX.

ADDRESSES: The scoping meeting location will be at the Abilene Convention Center, 1100 North 6th Street, Abilene, TX.

FOR FURTHER INFORMATION CONTACT: Questions and comments regarding the proposed action and EIS should be addressed to Mr. Frederick J. Land, Regulatory Project Manager, U.S. Army Corps of Engineers, Regulatory Division, 819 Taylor Street, Room 3A37, Fort Worth, TX 76102; (817) 886-1731; cedarridge@usace.army.mil.

SUPPLEMENTARY INFORMATION: The USACE will be conducting a public scoping meeting (see DATES and ADDRESSES) to describe the proposed Project, resources initially considered to be affected, the NEPA compliance process, and to solicit input on the issues and alternatives to be evaluated and other related matters. Written comments for scoping will be accepted until June 15, 2018. The USACE has prepared a scoping announcement to familiarize agencies, the public, and interested organizations with the proposed Project and potential environmental issues that may be involved. Copies of the scoping announcement will be available at the public scoping meetings or can be requested by mail. The public Scoping meetings will include an `open house' format and a presentation of information. Although written comments are encouraged, no formal public statements or public testimony will be taken at this time.

The applicant is proposing to construct and operate a new 227,127 acre-foot reservoir, with a proposed surface area of 6,635 acres at conservation pool and an additional 2,151 acres at flood pool formed by an approximately 5,200-foot long earthen dam. Proposed impacts to waters of the United States at the project site include fill and inundation of 29-miles of the Clear Fork of the Brazos River and inundation of 43 miles of intermittent and ephemeral tributaries to the Clear Fork. In addition, the proposed project would result in downstream impacts associated with hydrologic alterations. As part of the proposed project, other facilities to be constructed include two spillways, a multi-level outlet works, a pump station and 34-mile pipeline, roadways, and construction areas. The pump station and pipeline would affect areas that may be waters of the United States. Construction of the dam and associated facilities would require the placement of approximately 16,000 cubic yards of fill material below the ordinary high water mark of the river and a small amount of fill in an ephemeral tributary. The construction of the dam and spillways would require 117 acres of land. Temporary and permanent construction of the pump station, pipeline, access roadways, laydown areas, and borrow areas could impact an estimated 1,100 acres of land area.

The proposed project would be located primarily in northwest Shackelford County on the Clear Fork of the Brazos River with small portions located in adjacent Haskell, Jones, and Throckmorton counties in West Central Texas. The southern limit of the proposed reservoir would be approximately 25 miles northeast of Abilene, TX, near the town of Lueders, TX. The upstream limit of the reservoir would be located 0.4 river miles upstream from the State Highway (SH) 6 bridge over the Clear Fork near Lueders, TX. The downstream limit of the reservoir would be approximately 15 aerial miles downstream of the SH 6 bridge.

The EIS would be prepared according to the USACE's procedures at 33 CFR 230 and 325 Appendix B for implementing the National Environmental Policy Act (NEPA) of 1969, as amended, 42 U.S.C. 4332(2)(c), and consistent with the USACE's policy to facilitate public understanding and review of agency proposals. As part of the EIS process, the need for and purpose of the proposal as well as a full range of reasonable alternatives, including the proposed Project and no action, would be evaluated. Alternatives considered by the Applicant include developing new reservoirs at other locations including South Bend Reservoir, Double Mountain Reservoir (east or west sites), and Breckenridge Reservoir. Non-reservoir alternatives include securing additional water via a pipeline from Possum Kingdom reservoir, developing a scalping operation from Clear Fork to Hubbard Creek reservoir, water purchases, additional development of groundwater resources, and water reuse. The initial resource categories anticipated to be evaluated for direct, indirect and cumulative effects from the construction and operation of the project include soils, geology, mineral resources, geomorphology, surface and groundwater, hydrology, water rights and water use, air quality, noise, climate change, wetlands, water quality, fisheries, aquatics, vegetation, wildlife, threatened and endangered species, state sensitive species, transportation, visuals and aesthetics, cultural resources, paleontological resources, land use, energy use, property ownership, recreation, socioeconomics, hazardous materials, health and safety, and environmental justice.

The USACE has invited the U.S. Environmental Protection Agency, the U.S. Fish and Wildlife Service, the Texas Parks and Wildlife Department, the Texas Commission on Environmental Quality, Water Quality Division, and the Texas Historical Commission to be cooperating agencies in the formulation of the EIS.

At this time it is projected that a Draft EIS could be released by Fall 2021.

Stephen L Brooks,
Chief, Regulatory Division, Fort Worth District.

[FR Doc. 2018-07303 Filed 4-12-18; 8:45 am]

BILLING CODE 3720-58-P